DEPARTMENT OF TRANSPORTATION

Federal Motor Carrier Safety Administration

[Docket No. FMCSA-2011-0298]

Qualification of Drivers; Exemption Applications; Vision

AGENCY: Federal Motor Carrier Safety Administration (FMCSA), DOT.

ACTION: Notice of applications for exemptions; request for comments.

SUMMARY: FMCSA announces receipt of applications from 7 individuals for exemption from the vision requirement in the Federal Motor Carrier Safety Regulations. If granted, the exemptions would enable these individuals to qualify as drivers of commercial motor vehicles (CMVs) in interstate commerce without meeting the Federal vision requirement.

DATES: Comments must be received on or before December 12, 2011.

ADDRESSES: You may submit comments bearing the Federal Docket Management System (FDMS) Docket No. FMCSA-2011-0298 using any of the following methods:

• Federal eRulemaking Portal: Go to http://www.regulations.gov. Follow the online instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1 (202) 493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments online.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 7 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Adam O. Carson

Mr. Carson, age 29, has had retinopathy in his left eye since birth. The best corrected visual acuity in his right eye 20/30 and in his left eye, light perception. Following an examination in 2011, his ophthalmologist noted, “I believe that his vision is sufficient to perform his driving tasks required to operate a commercial vehicle.” Mr. Carson reported that he has driven straight trucks for 9.4 years, accumulating 18,800 miles. He holds a Class D operator's license from Mississippi. His driving record for the last 3 years shows no crashes and no convictions for moving violations in a CMV.

Michael P. Eisenreich

Mr. Eisenreich, 47, has a prosthetic left eye due to a traumatic injury sustained in 1984. The best corrected visual acuity in his right eye 20/20. Following an examination in 2011, his optometrist noted, “I certify that in my opinion that he can safely perform the driving tasks required to operate a commercial vehicle.” Mr. Eisenreich reported that he has driven tractor-trailer combinations for 5 years, accumulating 195,000 miles. He holds a Class A Commercial Driver's License (CDL) from Minnesota. His driving record for the last 3 years shows no crashes and no convictions for moving violations in a CMV.

Carlton G. Frank

Mr. Frank, 49, has had central scarring in his left eye since 2006. The best corrected visual acuity in his right eye 20/15 and in his left eye, 20/60. Following an examination in 2011, his optometrist noted, “In summary, Mr. Frank's condition remains stable, and he has sufficient vision to perform driving tasks required to operate a commercial vehicle.” Mr. Frank reported that he has driven buses for 3 years, accumulating 66,000 miles. He holds a Class B CDL from Florida. His driving record for the last 3 years shows no crashes and no convictions for moving violations in a CMV.

Roger W. Hammock

Mr. Hammock, 43, has had amblyopia in his right eye since childhood. The best corrected visual acuity in his right eye 20/70 and in his left eye, 20/20. Following an examination in 2011, his optometrist noted, “In my medical opinion, Roger Hammock has sufficient vision to perform the driving tasks required to operate a commercial vehicle.” Mr. Hammock reported that he has driven straight trucks for 17 years, accumulating 601,120 miles. He holds a Class D operator's license from Alabama. His driving record for the last 3 years shows no crashes and no convictions for moving violations in a CMV.

John T. Thor

Mr. Thor, 70, has had malignant melanoma in his right eye since the mid 1990's. The best corrected visual acuity in his right eye 20/500 and in his left eye, 20/20. Following an examination in 2011, his optometrist noted, “In my opinion, Mr. John Thor has adequate vision to perform the tasks required to operate a commercial vehicle.” Mr. Thor reported that he has driven straight trucks for 50 years, accumulating 500,000 miles and tractor-trailer combinations for 6 years, accumulating 360,000 miles. He holds a Class A CDL from Minnesota. His driving record for the last 3 years shows 1 crash, due to weather, and no convictions for moving violations in a CMV.

George Ulferts

Mr. Ulferts, 46, has had a completely detached retina in his left eye since February of 2008. The best corrected visual acuity in his right eye 20/20 and in his left eye, light perception. Following an examination in 2011, his optometrist noted, “It is of medical opinion that Mr. Ulfrets has the appropriate level of acuity in his right eye to sufficiently perform the driving tasks required to operate a commercial vehicle.” Mr. Ulfrets reported that he has driven straight trucks for 25 years, accumulating 625,000 miles. He holds a Class D operator's license from Iowa. His driving record for the last 3 years shows no crashes and no convictions for moving violations in a CMV.

Donald F. Wilton

Mr. Wilton, 42, has had amblyopia in his left eye since childhood. The best corrected visual acuity in his right eye 20/20 and in his left eye, 20/70. Following an examination in 2011, his optometrist noted, “I certify that Mr. Wilton shows sufficient vision to operate a commercial vehicle.” Mr. Wilton reported that he has driven tractor-trailer combinations for 23 years, accumulating 2.3 million miles. He holds a Class A CDL from California. His driving record for the last 3 years shows no crashes, but one conviction for a moving violation in a CMV; failure to stop at a traffic signal.

Request for Comments

In accordance with 49 U.S.C. 31136(e) and 31315, FMCSA requests public comment from all interested persons on the exemption petitions described in this notice. The Agency will consider all comments received before the close of business December 12, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: November 3, 2011.
Larry W. Minor,
Associate Administrator for Policy.

[FR Doc. 2011-29160 Filed 11-9-11; 8:45 am]

BILLING CODE 4910-EX-P